ENVIRONMENTAL PROTECTION AGENCY

[ER-FRL-6252-3]

Peace River Intake Facility, DeSoto County, Florida Construction and Operation of Expanded Water Treatment and Aquifer Storage/Recovery Facilities: Intent To Prepare an Environmental Impact Statement

AGENCY: Environmental Protection Agency (EPA).

ACTION: Notice of intent to prepare an Environmental Impact Statement (EIS) on facility construction associated with the Peace River/Manasota Regional Water Supply Authority Facility Construction Grant.

PURPOSE: Pursuant to 40 CFR 1501.7 and in accordance with Section 102(2)(c) of the National Environmental Policy Act (NEPA), EPA has identified the need to prepare an EIS and therefore issues this Notice of Intent pursuant to 40 CFR 1507.7.

FOR FURTHER INFORMATION AND TO BE PLACED ON THE PROJECT MAILING LIST CONTACT: Ms Lena Scott, Environmental Protection Agency—Region 4, Office of Environmental Assessment, 61 Forsyth Street, Atlanta, Georgia 30303, Telephone: (404) 562-9607 or FAX (404) 562-9598.

SUMMARY: EPA intends to prepare the EIS to evaluate the impacts of the Peace River/Manasota Regional Water Supply Authority's (Authority) proposal to construct and operate expanded water treatment and aquifer storage/recovery facilities at its existing Peace River Facility located in southwest DeSoto County, Florida. The proposed facilities will include treatment of surface water, alternative water storage including off-stream aquifer storage and recovery wells, and expansion of regional pipeline connections. EPA intends to retain the services of an independent contractor to provide technical data and to prepare the EIS using the “third party method” as provided under 40 CFR 6.510(b)(3). By utilizing the third party method, EPA enters into an agreement for the Authority to engage and pay for the services of a contractor to prepare the EIS under the direction of EPA.

NEED FOR ACTION: EPA awarded construction grants totaling $9,574,000 to the Authority for the construction of water treatment and aquifer storage/recovery facilities. Based on draft Environmental Information Documents (EID) submitted by the Authority, EPA determined the EID did not adequately address potential impacts and could not issue a Finding of No Significant Impact (FONSI). Known concerns include impacts from reduced flows on the Peace River, long-term impacts to Charlotte Harbor, threatened and endangered species, salinity regime change impacts on aquatic organisms, sport and commercial fisheries, cumulative and secondary impacts.

ALTERNATIVES:

• EPA issues construction grant with conditions.

• EPA issues construction grant with no conditions.

• EPA withholds construction grant, the No Action Alternative.

SCOPING: EPA will hold a public scoping meeting in April in which a general description of the projects and its goals will be presented. Time and meeting location will be announced in newspapers local to the project. Details of the proposed project will be presented. Both oral and written comments will be accepted at the scoping meeting to assist EPA to determine the scope of the EIS. Persons who do not attend the meeting and wish to comment on the issues and scope of the project are invited to respond in writing to this agency within 30 days of the scoping meeting.

ESTIMATED DATE OF DEIS RELEASE: September 1, 2001.

RESPONSIBLE OFFICIAL: A. Stanley Meiburg, Deputy Regional Administrator, Region 4, Environmental Protection Agency.

Dated: March 3, 2000.
Anne N. Miller,
Deptuy Director, Office of Federal Activities.

[FR Doc. 00-6705 Filed 3-16-00; 8:45 am]

BILLING CODE 6560-50-U